DEPARTMENT OF TRANSPORTATION

Federal Aviation Administration

14 CFR Part 71

[Docket No. FAA-2015-7484; Airspace Docket No. 15-AGL-24]

Amendment of Class D and Class E Airspace for the Following Minnesota Towns: Rochester, MN; and St. Cloud, MN

AGENCY: Federal Aviation Administration (FAA), DOT.

ACTION: Final rule, delay of effective date, correction.

SUMMARY: This action changes the effective date of a final rule published in the Federal Register of February 8, 2016, amending Class E surface area airspace and Class E airspace designated as an extension at Rochester International Airport, Rochester, MN; and St. Cloud Regional Airport, St. Cloud, MN. This correction adds the part-time Notice to Airmen (NOTAM) language inadvertently removed from the Class E surface area descriptions for the above airports. Additionally, adjustment is made to the geographic coordinates of Rochester International Airport in the Class D airspace and Class E airspace extending upward from 700 feet above the surface. The Title is also amended to include Class D airspace.

DATES: This correction is effective 0901 UTC, April 28, 2016, and the effective date of the rule amending 14 CFR part 71, published on February 8, 2016 (81 FR 6448) is delayed to 0901 UTC April 28, 2016. The Director of the Federal Register approves this incorporation by reference action under Title 1, Code of Federal Regulations, part 51, subject to the annual revision of FAA Order 7400.9 and publication of conforming amendments.

FOR FURTHER INFORMATION CONTACT: Jeffrey Claypool, Federal Aviation Administration, Operations Support Group, Central Service Center, 10101 Hillwood Parkway, Fort Worth, TX 76177; telephone (817) 222-5711.

SUPPLEMENTARY INFORMATION:

History

The Federal Register published a final rule amending Class E airspace at Rochester International Airport, Rochester, MN, and St. Cloud Regional Airport, St. Cloud, MN (81 FR 6448, February 8, 2016) Docket No. FAA-2015-7484. Subsequent to publication, the FAA determined that the part-time NOTAM language in the Class E surface area description was inadvertently removed in error. Potential safety concerns were identified due to the possibility for confusion in determining the operating rules and equipment requirements in the Rochester International Airport and St. Cloud Regional Airport terminal areas. The concerns were based on the opportunity for part-time Class D surface area airspace and continuous Class E surface area airspace to be active at the same time.

To resolve these concerns, the FAA is keeping the part-time NOTAM language in the Class E surface area description to retain it as part-time airspace supplementing the existing part-time Class D surface area airspace at Rochester International Airport and St. Cloud Regional Airport. Also, the FAA found in amending the airport reference point for the Rochester International Airport, additional existing controlled airspace was inadvertently omitted from the rule. This action adds adjustment of the geographic coordinates of the airport in Class D airspace and Class E airspace extending upward from 700 feet above the surface.

These are administrative corrections and do not affect the controlled airspace boundaries or operating requirements supporting operations in the Rochester International Airport and St. Cloud Regional Airport terminal areas.

Correction to Final Rule

Accordingly, pursuant to the authority delegated to me, in the Federal Register of February 8, 2016 (81 FR 6448) FR Doc. 2016-02283), Amendment of Class D and E Airspace for the Following Minnesota Towns; Rochester, MN; and St. Cloud, MN, is corrected as follows:

§ 71.1 [Amended]

On page 6448, column 3, line 27, remove “Amendment of Class E Airspace for the Following Minnesota Towns: Rochester, MN; and St. Cloud, MN” and add in its place “Amendment of Class D and Class E Airspace for the Following Minnesota Towns: Rochester, MN; and St. Cloud, MN”.

AGL MN E2 Rochester, MN [Corrected]

On page 6449, column 3, after line 49, add the following text:

“This Class E airspace area is effective during the specific dates and times established by a Notice to Airmen. The effective date and time will thereafter be continuously published in the Airport/Facility Directory.”

AGL MN E2 St. Cloud, MN [Corrected]

On page 6449, column 3, after line 59, add the following text:

“This Class E airspace area is effective during the specific dates and times established by a Notice to Airmen. The effective date and time will thereafter be continuously published in the Airport/Facility Directory.”

On page 6450, column 1, after line 24, add the following text:

Paragraph 5000 Class D Airspace.

* * * * *

AGL MN D Rochester, MN [Corrected]

Rochester International Airport, MN

(Lat. 43°54′30″ N., long. 92°30′00″ W.)

Rochester VOR/DME

(Lat. 43°46′58″ N., long. 92°35′49″ W.)

That airspace extending upward from the surface to and including 3,800 feet MSL within a 4.3-mile radius of the Rochester International Airport. This Class D airspace area is effective during the specific dates and times established in advance by a Notice to Airmen. The effective date and time will thereafter be published continuously in the Airport/Facility Directory.

Paragraph 6005 Class E Airspace Areas Extending Upward From 700 Feet or More Above the Surface of the Earth.

* * * * *

AGL MN E5 Rochester, MN [Corrected]

Rochester International Airport, MN

(Lat. 43°54′30″ N., long. 92°30′00″ W.)

Rochester VOR/DME

(Lat. 43°46′58″ N., long. 92°35′49″ W.)

Mayo Clinic-St. Mary's Hospital, MN

(Lat. 44°01′11″ N., long. 92°28′59″ W.)

That airspace extending upward from 700 feet above the surface within a 6.8-mile radius of the Rochester International Airport, and within 3.2 miles each side of the Rochester VOR/DME 028° radial extending from the 6.8-mile radius to 7.9 miles southwest of the airport, within 5.3 miles southwest and 4 miles northeast of the Rochester northwest localizer course extending from the 6.8-mile radius to 20 miles northwest of the airport, within 5.3 miles northeast and 4 miles southwest of the Rochester southeast localizer course extending from the 6.8-mile radius to 17.3 miles southeast of the airport and within a 6.4-mile radius of the St. Mary's Hospital Heliport.

Issued in Fort Worth, Texas, on March 21, 2016.
Robert W. Beck,
Manager, Operations Support Group, ATO Central Service Center.

[FR Doc. 2016-06932 Filed 3-28-16; 8:45 am]

BILLING CODE 4910-13-P